DEPARTMENT OF ENERGY

Federal Energy Regulatory Commission

Combined Notice of Filings #1

Take notice that the Commission received the following electric corporate filings:

Docket Numbers: EC16-60-000.

Applicants: Aspirity Energy Mid-States, LLC, Aspirity Energy Northeast, LLC.

Description: Application of Aspirity Energy Northeast, LLC, et al. for Authorization under Section 203 of the FPA and Requests for Expedited Consideration and Confidential Treatment.

Filed Date: 1/13/16.

Accession Number: 20160113-5289.

Comments Due: 5 p.m. ET 2/3/16.

Take notice that the Commission received the following exempt wholesale generator filings:

Docket Numbers: EG16-38-000.

Applicants: Innovative Solar 43, LLC.

Description: Notice of Self-Certification of Exempt Wholesale Generator (EWG) of Innovative Solar 43, LLC.

Filed Date: 1/13/16.

Accession Number: 20160113-5225.

Comments Due: 5 p.m. ET 2/3/16.

Take notice that the Commission received the following electric rate filings:

Docket Numbers: ER10-1818-012; ER10-1819-014; ER10-1820-017; ER10-1817-013.

Applicants: Public Service Company of Colorado, Northern States Power Company, a Minnesota corporation, Northern States Power Company, a Wisconsin corporation, Southwestern Public Service Company.

Description: Triennial Market Power Analysis and Notice of Change in Status of Public Service Company of Colorado, et al.

Filed Date: 1/14/16.

Accession Number: 20160114-5292.

Comments Due: 5 p.m. ET 3/14/16.

Docket Numbers: ER14-1656-007.

Applicants: CSOLAR IV West, LLC.

Description: Notification of Change in Status of CSOLAR IV West, LLC.

Filed Date: 1/14/16.

Accession Number: 20160114-5268.

Comments Due: 5 p.m. ET 2/4/16.

Docket Numbers: ER15-2679-002.

Applicants: Latigo Wind Park, LLC.

Description: Compliance filing: Latigo Wind Park, LLC MBR Tariff to be effective 11/15/2015.

Filed Date: 1/14/16.

Accession Number: 20160114-5273.

Comments Due: 5 p.m. ET 2/4/16.

Docket Numbers: ER15-2680-002.

Applicants: Sandstone Solar LLC.

Description: Compliance filing: Sandstone Solar LLC MBR Tariff to be effective 11/1/2015.

Filed Date: 1/14/16.

Accession Number: 20160114-5272.

Comments Due: 5 p.m. ET 2/4/16.

Docket Numbers: ER16-452-003.

Applicants: RE Tranquillity LLC.

Description: Tariff Amendment: Additional Amendment to Application and Initial Tariff Filing to be effective 12/3/2015.

Filed Date: 1/13/16.

Accession Number: 20160113-5236.

Comments Due: 5 p.m. ET 1/27/16.

Docket Numbers: ER16-730-000.

Applicants: PacifiCorp.

Description: § 205(d) Rate Filing: Basin Electric NITSA Rev 3 to be effective 1/1/2016.

Filed Date: 1/14/16.

Accession Number: 20160114-5290.

Comments Due: 5 p.m. ET 2/4/16.

Take notice that the Commission received the following electric securities filings:

Docket Numbers: ES16-19-000.

Applicants: Union Electric Company.

Description: Application of Union Electric Company for Section 204 financing authority.

Filed Date: 1/14/16.

Accession Number: 20160114-5303.

Comments Due: 5 p.m. ET 2/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 14, 2016.
Nathaniel J. Davis, Sr.,
Deputy Secretary.

[FR Doc. 2016-01119 Filed 1-20-16; 8:45 am]

BILLING CODE 6717-01-P